DEPARTMENT OF ENERGY

Federal Energy Regulatory Commission

[Project No. 2206-089]

Duke Energy Carolinas, LLC; Notice of Availability of Environmental Assessment

In accordance with the National Environmental Policy Act of 1969 and the Federal Energy Regulatory Commission (Commission) regulations, 18 CFR part 380 (Order No. 486, 52 FR 47897), the Office of Energy Projects has reviewed an application submitted by Duke Energy Carolinas, LLC (licensee) to grant easements to the Town of Norwood, North Carolina and Union County, North Carolina (co-applicants) to allow the use of Yadkin-Pee Dee Hydroelectric Project No. 2206, project lands and waters on Lake Tillery for municipal water supply. The Yadkin Pee-Dee Project is located on the Yadkin and Pee Dee Rivers in Anson, Montgomery, Richmond, and Stanly counties, North Carolina. The project does not occupy federal land.

An Environmental Assessment (EA) has been prepared as part of Commission staff's review of the proposal. In the application, the licensee proposes to grant easements to the co-applicants to construct and operate a raw water intake facility (facility) on Lake Tillery, one of the project's two storage reservoir. The easement area would total 0.34 acres of land within the project boundary. The intake structure and intake piping would require a 0.25 acre easement and an adjacent boathouse and pier for use in servicing the withdrawal facility would require an additional 0.09 acre easement. The facility would withdrawal a maximum annual average of 19.6 million gallons per day (MGD) and an instantaneous maximum of 49.0 MGD. A maximum monthly average of up to 23.3 MGD of the water withdrawn would be transferred out of the Yadkin River Basin into the Rocky River Basin, for consumptive use. A portion of the transferred water would be returned via treated wastewater effluent back through the Rocky River into the Pee Dee River approximately five miles downstream from the Lake Tillery Dam.

The EA contains Commission staff's analysis of the potential environmental impacts of the construction and operation of the facility and the proposed water withdrawal volume and concludes that approval of the proposal would not constitute a major federal action significantly affecting the quality of the human environment.

The EA may be viewed on the Commission's website at http://www.ferc.gov using the “eLibrary” link. Enter the docket number (P-2206) in the docket number field to access the document. For assistance, contact FERC Online Support at FERCOnlineSupport@ferc.gov or toll-free at (866) 208-3372 or for TTY, (202) 502-8659.

For further information, contact Robert Ballantine at (202) 502-6289 or by email at robert.ballantine@ferc.gov.

Dated: July 7, 2020.
Kimberly D. Bose,
Secretary.

[FR Doc. 2020-15022 Filed 7-10-20; 8:45 am]

BILLING CODE 6717-01-P